DEPARTMENT OF TRANSPORTATION

National Highway Traffic Safety Administration

49 CFR Part 571

[Docket No. 02-12480; Notice 2]

[RIN 2127-AI86]

Federal Motor Vehicle Safety Standards; Head Impact Protection

AGENCY: National Highway Traffic Safety Administration (NHTSA), Department of Transportation (DOT).

ACTION: Interim final rule, request for comments.

SUMMARY: This interim final rule amends the schedule for compliance by manufacturers of vehicles built in two or more stages with the upper interior head protection requirements of Federal Motor Vehicle Safety Standard No. 201, Occupant Protection in Interior Impact.

This interim final rule delays the date on which manufacturers of vehicles built in two or more stages must produce vehicles meeting the upper interior head protection performance requirements of Standard No. 201 from September 1, 2003, until September 1, 2006. The agency is issuing this interim final rule to provide time to complete a rulemaking action initiated by petitions for rulemaking requesting that NHTSA consider modifying the requirements of Standard No. 201 as they apply to vehicles manufactured in two or more stages. Since that rulemaking action may result in modification of Standard No. 201 as it applies to these multi-stage vehicles, the agency has decided to extend the compliance date until the final action is taken on the petitions. It expects to take final action before September 1, 2006.

DATES: This interim final rule becomes effective on September 1, 2003. Comments on this interim rule are due no later than September 29, 2003.

ADDRESSES: You may submit comments [identified by DOT DMS Docket Number 12480] by any of the following methods:

• Web site: http://dms.dot.gov Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

• Federal eRulemaking Portal: Go to http://www.regulations.gov Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov including any personal information provided. Please see the Privacy Act heading under Regulatory Analyses and Notices.

Docket: For access to the docket to read background documents or comments received, go to http://dms.dot.gov at any time or to Room PL-401 on the plaza level of the Nassif Building, 400 Seventh Street, SW., Washington, DC, between 9 am and 5 pm, Monday through Friday, except Federal Holidays.

FOR FURTHER INFORMATION CONTACT: For non-legal issues, you may call Dr. William Fan, Office of Crashworthiness Standards, at (202) 366-4922, facsimile (202) 366-4329.

For legal issues, you may call Otto Matheke, Office of the Chief Counsel, at (202) 366-5263.

SUPPLEMENTARY INFORMATION:

Table of Contents

I. Background

II. Petitions for Rulemaking and the June 2002 Interim Final Rule

III. Comments in Response to the June 2002 Interim Final Rule

IV. RVIA and NTEA Petitions For Rulemaking

V. Interim Final Rule

VI. Public Participation

VII. Regulatory Analyses and Notices

I. Background

NHTSA issued a final rule on August 18, 1995, amending Federal Motor Vehicle Safety Standard No. 201, Occupant Protection in Interior Impact, to require passenger cars, and trucks, buses and multipurpose passenger vehicles with a gross vehicle weight rating of 4,536 kilograms (10,000 pounds) or less, to provide head protection during a crash when an occupant's head strikes the upper interior, i.e., the roof pillars, side rails, headers, and the roof itself of the vehicle. (60 FR 430341) The final rule responded to the NHTSA Authorization Act of 1991 (sections 2500-2509 of the Intermodal Surface Transportation Efficiency Act (“ISTEA”), Pub. L. 102-240). ISTEA required NHTSA to address several vehicle safety matters through rulemaking. One of these matters, set forth in section 2503(5), was improved head impact protection from interior components of passenger cars.

The final rule, which mandated compliance with the new requirements beginning on September 1, 1998, significantly expanded the scope of Standard No. 201. Previously, the standard applied to the instrument panel, seat backs, interior compartment doors, arm rests and sun visors. To determine compliance with the upper interior impact requirements, the final rule added procedures for a new in-vehicle component test in which a Free Motion Headform (FMH) is fired at certain target locations on the upper interior of a vehicle at an impact speed of up to and including 24 km/h (15 mph). Data collected from a FMH impact are translated into a value known as a Head Injury Criterion (HIC) score. The resultant HIC must not exceed 1000.

The standard, as further amended on April 8, 1997 (62 FR 16718), provided manufacturers with four alternate phase-in schedules for complying with the upper interior impact requirements. First, as set forth in S6.1.1, manufacturers could comply by having the following percentages of their production meet the upper interior impact requirements: 10 percent of production on or after September 1, 1998 and before September 1, 1999; 25 percent of production on or after September 1, 1999 and before September 1, 2000, 40 percent of production on or after September 1, 2000 and before September 1, 2001, 70 percent of production on or after September 1, 2001 and before September 1, 2002, and 100 percent of production after September 1, 2002.

Second, an alternative schedule set forth in S6.1.2 provided that manufacturers could comply by meeting the following phase-in schedule: 7 percent of the vehicles manufactured on or after September 1, 1998 and before September 1, 1999; 31 percent of vehicles manufactured on or after September 1, 1999 and before September 1, 2000; 40 percent of vehicles manufactured on or after September 1, 2000 and before September 1, 2001; 70 percent of vehicles manufactured on or after September 1, 2001 and before September 1, 2002; and 100 percent of all vehicles manufactured after September 1, 2002.

Third, under a third phase-in schedule set forth in S6.1.3, manufacturers did not have to produce any complying vehicles before September 1, 1999. However, all vehicles produced on or after that date had to comply.

Fourth, S6.1.4 of the April 8, 1997 final rule provided that multi-stage vehicles produced after September 1, 2002, were required to comply.

II. Petitions for Rulemaking and the June 2002 Interim Final Rule

The Recreation Vehicle Industry Association (RVIA) filed a petition for rulemaking on October 4, 2001 requesting that the agency modify Standard No. 201 to exclude conversion vans and motor homes with gross vehicle weight rating of 4,536 kilograms (10,000 pounds) or less from the application of the upper interior head protection requirements of the Standard. The National Truck Equipment Association (NTEA) filed a petition for rulemaking on November 27, 2001 seeking similar relief for vehicles manufactured in two or more stages. Both petitions requested that NHTSA extend the existing phase-in for manufacturers of multi-stage vehicles (i.e., the fourth one described above) from September 1, 2002 to March 1, 2004. By letters dated March 28 and April 5, 2002, NHTSA indicated it was granting the petitions. The agency is currently embarking on a rulemaking proceeding to address the issues raised in the petitions.

NHTSA published an interim final rule in the Federal Register (67 FR 41348, June 18, 2002) extending the date by which vehicles manufactured in two or more stages must comply with the upper interior head protection requirements. As we explained in the preamble to the June 18, 2002 interim final rule, the agency found that the RVIA and NTEA petitions raised questions regarding NHTSA's earlier estimates of the compliance costs that the upper interior head protection requirements imposed on multi-stage manufacturers. We indicated that some of the points raised by the RVIA and NTEA could have merit, including the possibility that NHTSA had overestimated the degree by which cooperative and component, rather than full vehicle, testing could lower compliance costs. We also observed that incomplete vehicle manufacturers who supply unfinished vehicles to intermediate and final stage manufacturers appeared to be certifying smaller areas of the upper interior of the vehicles than was anticipated when the upper interior head protection requirements were promulgated.

The Regulatory Flexibility Act of 1980 requires agencies to evaluate the potential impacts of their proposed and final rules on small businesses. When NHTSA issued the final rule establishing the upper interior head impact protection requirements of Standard No. 201 in August 1995, the agency determined that the new requirements would impose a burden on small manufacturers, but that this burden would not result in a significant economic impact. The October 2001 petition filed by RVIA and the November 2001 petition filed by NTEA disputed the agency's position that compliance with the upper interior head protection requirements of Standard No. 201 would not be unduly burdensome. Both petitioners argued that efforts by their member companies to meet the upper interior requirement suggest that NHTSA's prior estimates may have been incorrect.

The member companies of RVIA and NTEA are manufacturers who purchase incomplete vehicles from major manufacturers to serve as the basis for specialty vehicles to meet certain uses and markets. As such, they may face a variety of challenges in certifying that their vehicles meet applicable safety standards. To afford final stage manufacturers sufficient leadtime to comply with the new upper interior head protection requirements, the agency's August 18, 1995 final rule stated that final stage manufacturers did not have to meet the standard until the last year of the phase-in. Nonetheless, our June 2002 interim final rule indicated that NHTSA could, when establishing the aforementioned deadline, have underestimated the difficulties faced by final stage manufacturers in meeting the new requirements.

In particular, we indicated that cooperative testing—which we had considered as one option for reducing costs when we issued the final rule in 1995—might not be practicable depending on the uniqueness of the vehicle interior and the features incorporated into it. In this market, where the uniqueness of the interior and the features incorporated into that interior are primary concerns of buyers, competitors are not likely to share their designs. We also observed that reducing compliance test costs by testing components outside of a vehicle rather than testing a complete vehicle may not be as practical as we had estimated in the 1995 final rule. Finally, we noted that final stage manufacturer modifications, such as raising or replacing the original roof, would likely result in relocation of certain specified target areas and reduce the ability of these manufacturers to rely on the incomplete vehicle manufacturer's certification that the vehicle met the standard for the target areas at their original location.

Because NHTSA needed further time to complete rulemaking, we issued an interim final rule extending the existing compliance date for final stage manufacturers to September 1, 2003. Although RVIA and NTEA requested that the agency extend the compliance date to March 1, 2004, we indicated our belief that such an extension was not necessary and that any future rulemaking could further modify the deadline established by this interim final rule.

III. Comments in Response to the June 2002 Interim Final Rule

The comment period for the June 2002 interim final rule closed on August 19, 2002. NHTSA did not receive any comments regarding the June 2002 interim final rule. However, as noted below in Section V, the agency has received a comment opposing additional extensions to the compliance date as requested by the January 20, 2003 RVIA and February 6, 2003 NTEA petitions for rulemaking.

IV. RVIA and NTEA Petitions For Rulemaking

On January 20, 2003, RVIA submitted a petition for rulemaking requesting that NHTSA grant an extension of the September 1, 2003 compliance date applicable for vehicles built in two or more stages to September 1, 2004. The organization stated that conversion vehicle and motorhome manufacturers are often small business entities who need additional time to develop required safety devices and designs. These small businesses also, according to RVIA, would need additional time to conduct research and certification testing on their vehicles. RVIA noted that since NHTSA was still completing rulemaking that may involve changes to the Standard as it applies to multi-stage vehicles, its members could not complete all the necessary testing to conform to any new requirements. Accordingly, RVIA indicated that an additional extension would be appropriate.

On February 6, 2003, NTEA submitted a petition for rulemaking seeking to extend the compliance date for vehicles built in two or more stages from September 1, 2003 to a future date that would provide its members with sufficient time to comply with any new requirements imposed by the pending rulemaking. In support of its request, NTEA observed that the preamble to the agency's June 18, 2002 interim final rule indicated that extension of the compliance deadline for multi-stage manufacturers was necessitated by NHTSA's ongoing consideration of potential changes to the upper interior head protection requirements applicable to these manufacturers. Since NHTSA had not yet completed the rulemaking action that led to the original grant of an extension, NTEA stated that the agency should further extend the compliance date to complete the rulemaking and provide manufacturers of multi-stage vehicles with sufficient leadtime to meet any new requirements issued as a result of that rulemaking.

The petition also referred NHTSA to some of the issues raised by NTEA in its November 2001 petition. In particular, NTEA reiterated that its members are small businesses with limited financial resources. Given these limited resources and its estimate that compliance would impose costs of more than $160,000,000 on the work truck industry, NTEA argued that requiring its members to meet the existing upper interior head protection provisions of Standard No. 201 is economically impracticable. Moreover, NTEA argued again that the volume of testing that would have to be completed by its members—who produce large numbers of unique vehicles customized for different applications—also made compliance impracticable.

Since NHTSA had not completed its ongoing rulemaking action and would not do so in time for its members to comply with the September 1, 2003 compliance date, NTEA requested that NHTSA extend the compliance deadline for multi-stage manufacturers to an appropriate date after NHTSA completes the pending rulemaking.

V. Interim Final Rule

When NHTSA issued the final rule establishing the upper interior head impact protection requirements of Standard No. 201 in August 1995, the agency determined that the new requirements would impose a burden on small manufacturers, but that this burden would not result in a significant economic impact. The petitions filed by RVIA and NTEA in the fall of 2001 disputed this finding and submitted information suggesting that NHTSA's prior estimate of the burdens imposed by the head impact protection requirements may have been incorrect. NHTSA has granted the NTEA and RVIA petitions and is now engaged in a rulemaking action. Unfortunately, NHTSA's consideration of the aforementioned rulemaking action has not yet been concluded. The compliance date set by our June 2002 interim final rule—September 1, 2003—is now only weeks away.

Given the imminence of the September 1, 2003 compliance date and the fact that NHTSA has not yet issued any formal proposal responding to the original NTEA and RVIA petitions for rulemaking, the agency has determined that it is appropriate to again extend the deadline. In order to minimize the possibility of an additional extension, this interim final rule extends the compliance date for vehicles built in two or more stages for an additional three years. Accordingly, vehicles built in two or more stages are required to meet the upper interior head protection requirements of Standard No. 201 on or after September 1, 2006. However, as we noted when issuing the June 2002 interim final rule, future rulemaking can, if needed, further modify the deadline.

The agency believes that there is good cause to find that providing notice and comment in connection with this rulemaking action is impracticable, unnecessary, and contrary to the public interest. NHTSA notes that time constraints prevent the completion of notice and comment rulemaking before the current September 1, 2003 compliance date. Moreover, this interim final rule does not alter any provisions other than the foregoing compliance date. Substantive changes to Standard No. 201, if any, will be addressed in a subsequent rulemaking.

Although NHTSA did not receive any comments regarding the extension of the compliance date contained in our June 2002 interim final rule, the agency has received a letter opposing further extensions. A manufacturer of motorhomes and camper vans, Home And Park Motorhomes (Home and Park), indicated that it understood that RVIA was requesting that NHTSA further extend the September 1, 2003 compliance date. Based on its belief that NHTSA had extended the compliance date to be sure that final stage manufacturers would have the opportunity to purchase incomplete vehicles offering pass-through certification, Home and Park indicated that it had brought its vehicles into compliance in anticipation of having to comply with the upper interior head protection requirements by September 1, 2003. Having expended considerable resources to do so, Home and Park stated that further extensions of the compliance deadline would penalize conscientious manufacturers and delay introduction of safer interiors for recreational vehicles.

NHTSA is aware that delaying the compliance date could arguably result in a decrease in safety if multi-stage manufacturers that have the capability to meet the upper interior head protection requirements do not do so. When we issued our June 2002 interim final rule, we estimated that the safety benefit of requiring one year's production of vehicles manufactured in two or more stages to meet the upper interior head protection requirements is approximately 18-24 equivalent lives saved each year for the front seats and one equivalent life saved each year for the rear seats. Although this estimate may overstate the safety risks of extending the compliance date due to the fact that many recreational vehicles and conversion vans are not driven as much as more conventional vehicles, these benefits could be lost during the period of the extension.

The potential safety loss would only be realized if multi-stage manufacturers would be able to meet the upper interior head protection requirements while maintaining production. When issuing our June 2002 interim final rule, we indicated that NHTSA may have underestimated the costs and difficulties faced by final stage manufacturers in meeting the upper interior head protection requirements. While Home and Park indicated that it had brought its vehicles into compliance, it appears to have done so based on the expectation that the compliance date was extended to increase the availability of pass-through certification. However, a limit on the ability to rely on pass-through certification was recognized by NHTSA as but one source of the challenges facing final stage manufacturers. Our June 2002 interim final rule cited a number of reasons why the agency believed that further relief for multi-stage manufacturers might be appropriate.

For reasons more fully discussed in our June 18, 2002 interim final rule, NHTSA has granted the NTEA and RVIA petitions and is now engaged in a rulemaking action considering whether to adopt further amendments to Standard No. 201. NHTSA has not yet resolved these issues, so this interim final rule extends the compliance date to September 1, 2006 to afford the agency time to take further action.

We note also that in extending the compliance date for vehicles built in two or more stages, NHTSA is also extending the compliance date for vehicles modified by alterers. Unlike final stage manufacturers, alterers begin with a certified vehicle and modify it to meet the needs of a particular market. Giving alterers additional time to comply with a standard allows the alterer to take a certified vehicle out of compliance, an action that NHTSA is normally reluctant to take. However, the challenges involved in meeting Standard No. 201 that are faced by final stage manufacturers also apply to alterers. If a vehicle manufacturer waits until the last possible moment to certify vehicles, alterers will not have the opportunity to do any engineering analysis to determine if the alterations affect compliance. Alterers also have limited engineering resources and testing capabilities. This may be telling where the alterer needs to change an original design to meet the demands of a particular application.

The agency requests written comments on extending the phase-in for vehicles manufactured for two or more stages. All comments submitted in response to this document will be considered by the agency. Following the close of the comment period, the agency will publish a document in the Federal Register responding to the comments and, if appropriate, will make further amendments to the extension of the phase-in requirements amended by this interim final rule.

VI. Public Participation

Interested persons are invited to comment on this interim final rule. It is requested, but not required, that two copies be submitted to the Office of Docket Management, Room PL-401, Nassif Building, 400 Seventh Street, SW., Washington, DC 20590.

All comments must be limited to 15 pages in length. Necessary attachments may be appended to those submissions without regard to the 15-page limit (49 CFR 553.21). This limitation is intended to encourage commenters to detail their primary arguments in a concise fashion.

Written comments to the public docket must be received by September 29, 2003.

All comments received before the close of business on the comment closing date will be considered and will be available for examination in the docket at the above address before and after that date. To the extent possible, comments filed after the closing date will also be considered. However, the rulemaking action may proceed at any time after that date.

NHTSA will continue to file relevant material in the docket as it becomes available after the closing date, and it is recommended that interested persons continue to examine the docket for new material.

Those persons who wish to be notified upon receipt of their comments in the docket should enclose, in the envelope with their comments, a self-addressed stamped postcard. Upon receiving the comments, the docket supervisor will return the postcard by mail.

Copies of all comments will be placed in the Docket for this interim final rule in the Office of Docket Management, Room PL-401, Nassif Building, 400 Seventh Street, SW., Washington, DC 20590.

VII. Regulatory Analyses and Notices

A. Economic Impacts

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This rulemaking document was not reviewed under Executive Order 12866. It is not significant within the meaning of the DOT Regulatory Policies and Procedures. It does not impose any burden on manufacturers and extends the compliance date for existing regulatory requirements for a period of three years. The agency believes that this impact is so minimal as to not warrant the preparation of a full regulatory evaluation.

B. Environmental Impacts

We have not conducted an evaluation of the impacts of this final rule under the National Environmental Policy Act. This rulemaking action extends the date by which manufacturers of vehicles built in two or more stages must comply with the upper interior head impact protection requirements of Standard No. 201. It does not impose any change that would have any environmental impacts. Accordingly, no environmental assessment is required.

C. Impacts on Small Entities

Pursuant to the Regulatory Flexibility Act, the agency has considered the impact this rulemaking will have on small entities. As this action will provide a short term benefit for small entities by delaying the compliance date, it will have a significant economic impact on a substantial number of small entities within the context of the Regulatory Flexibility Act.

The Regulatory Flexibility Act of 1980 (Pub. L. 96-354) requires each agency to evaluate the potential effects of a rule on small businesses. The Small Business Administration (SBA) has set size standards for determining if a business within a specific industrial classification is a small business. The Standard Industrial Classification code used by the SBA for Motor Vehicles and Passenger Car Bodies (3711) defines a small manufacturer as one having 1,000 employees or fewer.

Most of the intermediate and final stage manufacturers of vehicles built in two or more stages have 1,000 or fewer employees. This interim final rule extends the date by which these manufacturers must produce vehicles that meet the upper interior head protection requirements of Standard No. 201. Although this action does not modify those requirements, it provides these small businesses additional time to meet them. In the agency's view, issuance of this interim final rule is necessary to prevent adverse effects that may have been underestimated in a prior rulemaking establishing the requirements at issue. For this reason, this interim final rule regarding the compliance date will have a significant economic impact on a substantial number of small entities. The agency performed a Regulatory Flexibility Analysis for the previous one-year extension and placed a copy in the docket. See “Final Regulatory Flexibility Analysis, Head Impact Protection, FMVSS 201,” June 2002, Docket # 02-12480. That analysis is applicable to this three-year extension as well.

D. Federalism

E.O. 13132 requires NHTSA to develop an accountable process to ensure “meaningful and timely input by State and local officials in the development of regulatory policies that have federalism implications.” E.O. 13132 defines the term “Policies that have federalism implications” to include regulations that have “substantial direct effects on the States, on the relationship between the national government and the States, or on the distribution of power and responsibilities among the various levels of government.” Under E.O. 13132, NHTSA may not issue a regulation that has federalism implication, that imposes substantial direct compliance costs, and that is not required by statute, unless the Federal government provides the funds necessary to pay the direct compliance costs incurred by State and local governments, or NHTSA consults with State and local officials early in the process of developing the proposed regulation.

This interim final rule will not have substantial direct effects on the States, on the relationship between the national government and the States, or on the distribution of power and responsibilities among the various levels of government as specified in E.O. 13132. Thus, the requirements of section 6 of the Executive Order do not apply to this rule.

E. The Unfunded Mandates Reform Act

The Unfunded Mandates Reform Act of 1995 (Pub. L. 104-4) requires agencies to prepare a written assessment of the costs, benefits and other effects of proposed or final rules that include a Federal mandate likely to result in the expenditure by State, local or tribal governments, in the aggregate, or by the private sector, of more than $100 million annually. This action, which extends the compliance date by which manufacturers of vehicles built in two or more stages must meet the upper interior head impact protection requirements of Standard No. 201, will not result in additional expenditures by State, local or tribal governments or by any members of the private sector. Therefore, the agency has not prepared an economic assessment pursuant to the Unfunded Mandates Reform Act.

F. Paperwork Reduction Act

There are no information collection requirements in this rule.

G. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

H. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

If you have any responses to these questions, please forward them to Otto Matheke, Office of Chief Counsel, National Highway Traffic Safety Administration, 400 Seventh Street, SW., Washington, DC 20590.

I. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. In meeting that requirement, we are required to consult with voluntary, private sector, consensus standards bodies. Examples of organizations generally regarded as voluntary consensus standards bodies include the American Society for Testing and Materials (ASTM), the Society of Automotive Engineers (SAE), and the American National Standards Institute (ANSI). If NHTSA does not use available and potentially applicable voluntary consensus standards, we are required by the Act to provide Congress, through OMB, an explanation of the reasons for not using such standards.

We are not aware of any available and potentially applicable voluntary consensus standards, i.e., ones regarding the performance of vehicle interior components in protecting against head impacts. Therefore, this rule is not based on any voluntary consensus standards.

J. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Imports, Motor vehicle safety, Motor vehicles, Rubber and rubber products, Tires.

In consideration of the foregoing, 49 CFR part 571 is amended as follows:

PART 571.201—[AMENDED]

1. The authority citation for part 571 continues to read as follows:

Authority: 49 U.S.C. 322, 21411, 21415, 21417, and 21466; delegation of authority at 49 CFR 1.50.

2. Section 571.201 is amended by revising S6.1 introductory text, S6.1.4.1, S6.1.4.2 and S6.2 introductory text to read as follows:

* * * * *

S6.1 Vehicles manufactured on or after September 1, 1998. Except as provided in S6.3 and S6.1.4, for vehicles manufactured on or after September 1, 1998 and before September 1, 2002, a percentage of the manufacturer's production, as specified in S6.1.1, S6.1.2, or S6.1.3 shall conform, at the manufacturer's option, to either S6.1(a) or S6.1(b). For vehicles manufactured by final stage manufacturers on or after September 1, 1998 and before September 1, 2006, a percentage of the manufacturer's production as specified in S6.1.4 shall, except as provided in S6.3, conform, to either S6.1(a) or S6.1(b). The manufacturer shall select the option by the time it certifies the vehicle and may not thereafter select a different option for the vehicle.

* * * * *

S6.1.4.1 Vehicles manufactured on or after September 1, 1998 and before September 1, 2006 are not required to comply with the requirements specified in S7.

S6.1.4.2 Vehicles manufactured on or after September 1, 2006 shall comply with the requirements specified in S7.

* * * * *

S6.2 Vehicles manufactured on or after September 1, 2002 and vehicles built in two or more stages manufactured after September 1, 2006. Except as provided in S6.1.4 and S6.3, vehicles manufactured on or after September 1, 2002 shall, when tested under the conditions of S8, conform, at the manufacturer's option, to either S6.2(a) or S6.2(b). Vehicles manufactured by final stage manufacturers on or after September 1, 2006 shall, except as provided in S6.3, when tested under the conditions of S8, conform, at the manufacturer's option, to either S6.2(a) or S6.2(b). The manufacturer shall select the option by the time it certifies the vehicle and may not thereafter select a different option for the vehicle.

* * * * *

Issued on August 22, 2003.
Jeffrey W. Runge,
Administrator.

[FR Doc. 03-22010 Filed 8-25-03; 2:09 pm]

BILLING CODE 4910-59-P